NUCLEAR REGULATORY COMMISSION

Advisory Committee on Reactor Safeguards

Subcommittee Meeting on Thermal-Hydraulic Phenomena; Notice of Meeting

The ACRS Subcommittee on Thermal-Hydraulic Phenomena will hold a meeting on September 22-23, 2004, Room T-2B3, 11545 Rockville Pike, Rockville, Maryland.

The agenda for the subject meeting shall be as follows:

Wednesday and Thursday, September 22-23, 2004—8:30 a.m. until the conclusion of business each day

The Subcommittee will review the staff's final safety evaluation report on the industry guidelines related to resolution of GSI-191, “Assessment of Debris Accumulation on PWR Sump Performance.” The Subcommittee will also review the final staff resolution of GSI-185, “Control of Recriticality Following Small-Break LOCAs in PWRs.” The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: August 12, 2004.
Marvin D. Sykes,
Acting Associate Director for Technical Support, ACRS/ACNW.

[FR Doc. 04-19103 Filed 8-19-04; 8:45 am]

BILLING CODE 7590-01-P